DEPARTMENT OF DEFENSE

Office of the Secretary

Renewal of Air University Board of Visitors

AGENCY: DoD.

ACTION: Renewal of Federal Advisory Committee.

SUMMARY: Under the provisions of the Federal Advisory Committee Act of 1972 (5 U.S.C. Appendix), the Government in the Sunshine Act of 1976 (5 U.S.C. 552b), and 41 CFR 102-3.50(d), the Department of Defense gives notice that it is renewing the charter for the Air University Board of Visitors (hereafter referred to as “the Board”).

The Board is a discretionary federal advisory committee that shall provide the Secretary of Defense through the Secretary of the Air Force, independent advice and recommendations on educational and doctrinal and research policies and activities of Air University. The Board shall:

a. Review and evaluate progress of the educational programs and the support activities of the university;

b. Review and evaluate the published statement of purpose, institutional polices, and financial resources of the university; and

c. Review and evaluate the educational effectiveness, quality of student learning, administrative and educational support services, and teaching, research and public service of the university.

The Secretary of the Air Force may act upon the Board's advice and recommendations.

The Board shall be comprised of no more 35 members appointed by the Secretary of Defense who are eminent authorities in the field of air power, defense, management, leadership, and academia. All Board member appointments must be renewed by the Secretary of Defense on an annual basis.

The Board's Chairperson shall be elected by a vote of the membership and approved by the Air University Commander and President. The President of the Naval Postgraduate School shall serve as an ex-offico member.

Board members, who are not full-time or permanent part-time Federal officers or employees, shall be appointed to serve as experts and consultants under the authority of 5 U.S.C. § 3109 and shall serve as special government employee members. With the exception of travel and per diem for official Board related travel, Board members shall serve without compensation.

Each Board member is appointed to provide advice on behalf of the government on the basis of his or her best judgment without representing any particular point of view and in a manner that is free from conflict of interest.

The Department, when necessary, and consistent with the Board's mission and DoD policies and procedures, may establish subcommittees deemed necessary to support the Board. Establishment of subcommittees will be based upon a written determination, to include terms of reference, by the Secretary of Defense, the Deputy Secretary of Defense or the advisory committee's sponsor.

The Committee shall establish five permanent subcommittees:

1. The Academic Affairs Subcommittee shall be comprised of nine members. The primary focus of the subcommittee is to provide advice and recommendations to the AU Board of Visitors concerning policies and practices concerning all academic matters across the university. More specifically, the subcommittee will review schools, programs, degree programs, academic and strategic plans, legislative and accreditation issues. The subcommittee will also review policies and practices on academic personnel (appointment, promotion, tenure, sabbaticals, etc) and the registrar functions. The estimated number and frequency of subcommittee meetings is two per year.

2. The Air Force Institute of Technology (AFIT) subcommittee shall be comprised of eight members. The primary focus of the subcommittee is to provide advice and recommendations to the Air University Board of Visitors concerning engineering and technology graduate programs. The estimated number and frequency of subcommittee meetings is one per year.

3. The Future Learning and Technology Subcommittee shall be comprised of six members. The subcommittee's primary focus is to provide advice and recommendations to the Air University Board of Visitors concerning the appropriate use of technology in delivery of educational programs; effective and efficient use of administrative computing; duplication; technological challenges, and implementation of new learning environments. The estimated number and frequency of subcommittee meetings is two per year.

4. The Institutional Advancement Subcommittee shall be comprised of nine members. The primary focus of the subcommittee is to provide advice and recommendations to the Air University Board of Visitors concerning policies regarding: federal and state grants and private funding of research, teaching and service (Grants); Air University Foundation; alumni affairs; community and outreach matters; public affairs/external relations; public relations, branding, advertising, news and information; facilities improvements and initiatives; strategic plans; spending and policy decisions (budget, contracts, salaries, etc.); tracking and analysis of administrative costs and effectiveness; reviewing proposed additions and renovations of existing facilities; and recommendations of candidates for Air University honorary degrees. The estimated number and frequency of subcommittee meetings is two per year.

5. The Air University Research Subcommittee shall be comprised of six members. The primary focus of the subcommittee is to provide advice and recommendations to the Air University Board of Visitors concerning research processes across the University (to include the Air Force Institute of Technology (AFIT), Air War College (AWC), Air Command and Staff College (ACSC), School of Advanced Air and Space Studies (SAASS), Air Force Research Institute (AFRI) and Fairchild Research Information Center (FRIC)) as well as discuss publication opportunities that enhance the University's effect across the Air Force and the world wide. The estimated number and frequency of subcommittee meetings is two per year.

Such subcommittees shall not work independently of the chartered Board, and shall report all their recommendations and advice to the Board for full deliberation and discussion. Subcommittees have no authority to make decisions on behalf of the chartered Board; nor can any subcommittee or its members update or report directly to the DoD or any Federal officers or employees. Subcommittees shall comply with FACA.

All subcommittee members shall be appointed in the same manner as the Board members; that is, the Secretary of Defense shall appoint subcommittee members even if the member in question is already a Board member.

Subcommittee members, if not full-time or part-time government employees, shall be appointed to serve as experts and consultants under the authority of 5 U.S.C. § 3109, and shall serve as special government employees, whose appointments must be renewed by the Secretary of Defense on an annual basis. With the exception of travel and per diem for official Board related travel, subcommittee members shall serve without compensation.

All subcommittees operate under the provisions of FACA, the Government in the Sunshine Act of 1976 (5 U.S.C. 552b), governing Federal statutes and regulations, and governing DoD policies/procedures.

FOR FURTHER INFORMATION CONTACT: Jim Freeman, Deputy Advisory Committee Management Officer for the Department of Defense, 703-692-5952.

SUPPLEMENTARY INFORMATION: The Board shall meet at the call of the Board's Designated Federal Officer, in consultation with the Chairperson and the Commander and President of Air University. The estimated number of Board meetings is four per year.

In addition, the Designated Federal Officer is required to be in attendance at all Board and subcommittee meetings for the entire duration of each and every meeting; however, in the absence of the Designated Federal Officer, the Alternate Designated Federal Officer shall attend the entire duration of the Board or subcommittee meeting.

Pursuant to 41 CFR 102-3.105(j) and 102-3.140, the public or interested organizations may submit written statements to Air University Board of Visitors membership about the Board's mission and functions. Written statements may be submitted at any time or in response to the stated agenda of planned meeting of Air University Board of Visitors.

All written statements shall be submitted to the Designated Federal Officer for the Air University Board of Visitors, and this individual will ensure that the written statements are provided to the membership for their consideration. Contact information for the Air University Board of Visitors' Designated Federal Officer can be obtained from the GSA's FACA Database— https://www.fido.gov/facadatabase/public.asp.

The Designated Federal Officer, pursuant to 41 CFR 102-3.150, will announce planned meetings of the Air University Board of Visitors. The Designated Federal Officer, at that time, may provide additional guidance on the submission of written statements that are in response to the stated agenda for the planned meeting in question.

Dated: March 26, 2012.
Aaron Siegel,
Alternate OSD Federal Register Liaison Officer, Department of Defense.

[FR Doc. 2012-7616 Filed 3-29-12; 8:45 am]

BILLING CODE 5001-06-P